DEPARTMENT OF TRANSPORTATION

Federal Aviation Administration

14 CFR Part 39

[Docket No. FAA-2015-0490; Directorate Identifier 2014-NM-018-AD]

RIN 2120-AA64

Airworthiness Directives; Airbus Airplanes

AGENCY: Federal Aviation Administration (FAA), DOT.

ACTION: Notice of proposed rulemaking (NPRM).

SUMMARY: We propose to supersede Airworthiness Directive (AD) 2008-22-20, for certain Airbus Model A330-200, A330-300, and A340-300 series airplanes. AD 2008-22-20 currently requires repetitive high frequency eddy current (HFEC) inspections for cracking, repair if necessary, and modification of the upper shell structure of the fuselage. Since we issued AD 2008-22-20, we have determined from a fatigue and damage tolerance evaluation that the compliance times must be reduced. This proposed AD would shorten certain compliance times. We are proposing this AD to prevent fatigue cracking of the upper shell structure of the fuselage, which could result in reduced structural integrity of the airplane.

DATES: We must receive comments on this proposed AD by May 1, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0490; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2015-0490; Directorate Identifier 2014-NM-018-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 20, 2008, we issued AD 2008-22-20, Amendment 39-15717 (73 FR 66747, November 12, 2008). AD 2008-22-20 requires actions intended to address an unsafe condition on certain Airbus Model A330-200, A330-300, and A340-300 series airplanes.

Since we issued AD 2008-22-20, Amendment 39-15717 (73 FR 66747, November 12, 2008), it has been determined from a fatigue and damage tolerance evaluation that the compliance times for certain inspections and modification must be reduced.

The European Aviation Safety Agency (EASA), which is the Technical Agent for the Member States of the European Union, has issued EASA Airworthiness Directive 2014-0012R1, dated January 24, 2014 (referred to after this as the Mandatory Continuing Airworthiness Information, or “the MCAI”), to correct an unsafe condition for the specified products. The MCAI states:

During fatigue tests (EF3) on the A340-600, damage was found in the longitudinal doubler at the Vertical Tail Plane (VTP) attachment cut out between Frame (FR) 80 and FR86. This damage occurred between 58,341 and 72,891 simulated flight cycles (FC).

Due to the higher Design Service Goal and different design of the affected structural area (e.g., doubler thickness) for A330-200/-300 and A340-300 airplane series, the damage assessment concluded that these airplanes may be also potentially affected.

This condition, if not detected and corrected, could affect the structural integrity of the upper shell structure between FR80 and FR86.

Prompted by these findings, EASA issued AD 2007-0284 [(http://ad.easa.europa.eu/blob/easa_ad_2007_0284_superseded.pdf/AD_2007-0284_1)] to require implementation of an inspection programme of this structural area using a high frequency eddy current (HFEC) method and a modification to improve the upper shell structure.

Since that [EASA] AD was issued, in the frame of a new fatigue and damage tolerance evaluation, taking into account the airplane utilisation, the inspection threshold and intervals have been reassessed and the conclusion was that the thresholds and intervals for inspection, as well as the threshold for modifying the airplane, must be reduced.

For the reason described above, this [EASA] AD retains the requirements of EASA AD 2007-0284, which is superseded and introduces redefined thresholds and intervals.

This [EASA] AD is revised to clarify that, under some conditions, accomplishment of a repair constitutes terminating action for the repetitive inspections. One of the outcome of this clarification is the deletion of paragraph (5) of this [EASA] AD.

You may examine the MCAI in the AD docket on the Internet at http://www.regulations.gov by searching for and locating it in Docket No. FAA-2015-0490.

Initial compliance time thresholds range from 7,300 flight cycles or 47,600 flight hours, and up to 25,400 flight cycles or 76,300 flight hours, depending on configuration and range.

Repetitive compliance time thresholds range from 1,700 flight cycles or 11,300 flight hours, and up to 4,500 flight cycles or 13,500 flight hours, depending on configuration.

Widespread Fatigue Damage

Structural fatigue damage is progressive. It begins as minute cracks, and those cracks grow under the action of repeated stresses. This can happen because of normal operational conditions and design attributes, or because of isolated situations or incidents such as material defects, poor fabrication quality, or corrosion pits, dings, or scratches. Fatigue damage can occur locally, in small areas or structural design details, or globally. Global fatigue damage is general degradation of large areas of structure with similar structural details and stress levels. Multiple-site damage is global damage that occurs in a large structural element such as a single rivet line of a lap splice joining two large skin panels. Global damage can also occur in multiple elements such as adjacent frames or stringers. Multiple-site-damage and multiple-element-damage cracks are typically too small initially to be reliably detected with normal inspection methods. Without intervention, these cracks will grow, and eventually compromise the structural integrity of the airplane, in a condition known as widespread fatigue damage (WFD). As an airplane ages, WFD will likely occur, and will certainly occur if the airplane is operated long enough without any intervention.

The FAA's WFD final rule (75 FR 69746, November 15, 2010) became effective on January 14, 2011. The WFD rule requires certain actions to prevent structural failure due to WFD throughout the operational life of certain existing transport category airplanes and all of these airplanes that will be certificated in the future. For existing and future airplanes subject to the WFD rule, the rule requires that DAHs establish a limit of validity (LOV) of the engineering data that support the structural maintenance program. Operators affected by the WFD rule may not fly an airplane beyond its LOV, unless an extended LOV is approved.

The WFD rule (75 FR 69746, November 15, 2010) does not require identifying and developing maintenance actions if the DAHs can show that such actions are not necessary to prevent WFD before the airplane reaches the LOV. Many LOVs, however, do depend on accomplishment of future maintenance actions. As stated in the WFD rule, any maintenance actions necessary to reach the LOV will be mandated by airworthiness directives through separate rulemaking actions.

In the context of WFD, this action is necessary to enable DAHs to propose LOVs that allow operators the longest operational lives for their airplanes, and still ensure that WFD will not occur. This approach allows for an implementation strategy that provides flexibility to DAHs in determining the timing of service information development (with FAA approval), while providing operators with certainty regarding the LOV applicable to their airplanes.

Related Service Information Under 1 CFR Part 51

Airbus has issued the following service information. The actions described in this service information are intended to correct the unsafe condition identified in the MCAI. This service information is reasonably available; see ADDRESSES for ways to access this service information.

• Airbus Service Bulletin A330-53-3159, Revision 02, dated March 29, 2010. The service information describes procedures for a modification of the fuselage, which includes inspections (e.g., eddy current rotating probe test of fastener holes for cracking, high frequency eddy current (HFEC) inspections for cracking of the upper shell structure of the fuselage, and checks of the fastener position for clearance) and applicable corrective actions (e.g., repair and rework).

• Airbus Service Bulletin A330-53-3160, Revision 03, dated January 6, 2012. The service information describes procedures for applicable actions, including an eddy current rotating probe test for cracking of the fastener holes and an HFEC inspection for cracks in the upper shell of the fuselage (and including checks of the fastener position for clearance and applicable corrective actions (e.g., repair and rework)), and a modification of the airplane upper shell structure of the fuselage between FR80 and FR86.

• Airbus Service Bulletin A330-53-3168, Revision 02, dated December 21, 2011. The service information describes procedures for a HFEC inspection for cracking of the upper shell structure of the fuselage between FR80 and FR86.

• Airbus Service Bulletin A340-53-4165, Revision 02, dated March 29, 2010. The service information describes procedures for a modification of the fuselage, which includes inspections (e.g., eddy current rotating probe test of fastener holes for cracking, HFEC inspections for cracking of the upper shell structure of the fuselage, and checks of the fastener position for clearance) and applicable corrective actions (e.g., repair and rework).

• Airbus Service Bulletin A340-53-4172, Revision 01, dated July 8, 2009. The service information describes procedures for inspections (e.g., rototest inspections of fastener holes for cracking, HFEC inspections for cracking of the upper shell structure of the fuselage, and checks of the fastener position for clearance) and modification of the airplane upper shell structure between FR80 and FR86 (including applicable corrective actions (e.g., repair and rework).

• Airbus Service Bulletin A340-53-4174, Revision 02, dated December 21, 2011. The service information describes procedures for a HFEC inspection for cracking of the upper shell structure of the fuselage between FR80 and FR86.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

Unlike the procedures described in the service information, this proposed AD would not permit further flight if cracks are detected in the upper shell structure. We have determined that, because of the safety implications and consequences associated with that cracking, any cracked upper shell structure must be repaired before further flight. This difference has been coordinated with the EASA and Airbus.

Explanation of Compliance Time for Modification

The compliance time for the modification specified in this proposed AD for addressing WFD was established to ensure that discrepant structure is modified before WFD develops in airplanes. Standard inspection techniques cannot be relied on to detect WFD before it becomes a hazard to flight. We will not grant any extensions of the compliance time to complete any AD-mandated service bulletin related to WFD without extensive new data that would substantiate and clearly warrant such an extension.

Costs of Compliance

We estimate that this proposed AD affects 26 airplanes of U.S. registry. We also estimate that it would take about 208 work-hours per product to comply with the basic requirements (inspection and modification) of this proposed AD. The average labor rate is $85 per work-hour. Required parts would cost about $28,360 per product. Based on these figures, we estimate the cost of this proposed AD on U.S. operators to be $1,197,040, or $46,040 per product.

We have received no definitive data that would enable us to provide cost estimates for the on-condition actions specified in this proposed AD.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-22-20, Amendment 39-15717 (73 FR 66747, November 12, 2008), and adding the following new AD:

Airbus: Docket No. FAA-2015-0490; Directorate Identifier 2014-NM-018-AD.

(a) Comments Due Date

We must receive comments by May 1, 2015.

(b) Affected ADs

This AD replaces AD 2008-22-20, Amendment 39-15717 (73 FR 66747, November 12, 2008).

(c) Applicability

This AD applies to Airbus Model A330-201, -202, -203, -223, -243, -301, -302, -303, -321, -322, -323, -341, -342, and -343; and Model A340-311, -312, and -313 airplanes; certificated in any category; all manufacturer serial numbers on which Airbus Modification 44205 has been embodied in production, except those on which Airbus Modification 52974 or 53223 has been embodied in production.

(d) Subject

Air Transport Association (ATA) of America Code 53, Fuselage.

(e) Reason

This AD was prompted by the results of a fatigue and damage tolerance evaluation that concluded existing compliance times must be reduced. We are issuing this AD to prevent fatigue cracking of the upper shell structure of the fuselage, which could result in reduced structural integrity of the airplane.

(f) Compliance

Comply with this AD within the compliance times specified, unless already done.

(g) Inspection for Airbus Model A330-300 and A340-300 Airplanes, Except Model A340-300 Weight Variant (WV) 027 Airplanes

For Model A330-300 and A340-300 airplanes, except Model A340-300 WV 027 airplanes: At the applicable time specified in paragraph (g)(1) or (g)(2) of this AD, do a high frequency eddy current (HFEC) inspection for cracking of the upper shell structure between frame (FR) 80 and FR86, in accordance with the Accomplishment Instructions of Airbus Service Bulletin A330-53-3168, Revision 02, dated December 21, 2011; or Airbus Service Bulletin A340-53-4174, Revision 02, dated December 21, 2011; as applicable. Repeat the inspection thereafter at the applicable time specified in paragraph 1.E., “COMPLIANCE,” of Airbus Service Bulletin A330-53-3168, Revision 02, dated December 21, 2011; or Airbus Service Bulletin A340-53-4174, Revision 02, dated December 21, 2011; as applicable.

(1) For airplanes that, as of the effective date of this AD, have not been inspected in accordance with Airbus Service Bulletin A330-53-3168; or Airbus Service Bulletin A340-53-4174; as applicable: Inspect at the later of the times specified in paragraphs (g)(1)(i) and (g)(1)(ii) of this AD.

(i) Before reaching the applicable threshold specified in paragraph 1.E., “COMPLIANCE,” of Airbus Service Bulletin A330-53-3168, Revision 02, dated December 21, 2011; or Airbus Service Bulletin A340-53-4174, Revision 02, dated December 21, 2011; as applicable for airplane model, configuration, and utilization, since the airplane's first flight.

(ii) Within the threshold defined in paragraph 1.E, “COMPLIANCE,” of Airbus Service Bulletin A330-53-3168, Revision 01, dated February 15, 2008; or Airbus Service Bulletin A340-53-4174, Revision 01, dated February 15, 2008; as applicable for airplane model, configuration, and utilization since the airplane's first flight; or within 12 months after the effective date of this AD; whichever occurs first.

(2) For airplanes that, as of the effective date of this AD, have been inspected in accordance with Airbus Service Bulletin A330-53-3168; or Airbus Service Bulletin A340-53-4174; as applicable: Inspect at the later of the times specified in paragraphs (g)(2)(i) and (g)(2)(ii) of this AD.

(i) Within the applicable interval specified in paragraph 1.E., “COMPLIANCE,” of Airbus Service Bulletin A330-53-3168, Revision 02, dated December 21, 2011; or Airbus Service Bulletin A340-53-4174, Revision 02, dated December 21, 2011; as applicable; to be counted from the last inspection.

(ii) Within 12 months after the effective date of this AD without exceeding the intervals defined in paragraph 1.E, “COMPLIANCE,” of Airbus Service Bulletin A330-53-3168, Revision 01, dated February 15, 2008; or Airbus Service Bulletin A340-53-4174, Revision 01, dated February 15, 2008; as applicable for airplane model, configuration, and utilization to be counted from the last inspection.

(h) Corrective Action for Airbus Model A330-300 and A340-300 Airplanes, Except Model A340-300 WV 027 Airplanes

If any crack is detected during any HFEC inspection required by the introductory text to paragraph (g) of this AD: Before further flight, repair using a method approved by the Manager, International Branch, ANM-116, Transport Airplane Directorate, FAA; or the European Aviation Safety Agency (EASA); or Airbus's EASA Design Organization Approval (DOA). Accomplishment of a repair for a specific area, as required by this paragraph, is terminating action for the repetitive HFEC inspections required by the introductory text to paragraph (g) of this AD, as applicable, for that specific repaired area only. The need and definition of subsequent repetitive inspections (if any) for that specific repaired area will be defined in the applicable repair method approved by the Manager, International Branch, ANM-116, Transport Airplane Directorate, FAA; or the European Aviation Safety Agency (EASA) or Airbus's EASA Design Organization Approval (DOA).

(i) Optional Terminating Action

For Airbus Model A330-300 and A340-300 airplanes, except Model A340-300 WV 027 airplanes: Modification, which includes inspections and applicable corrective actions, in accordance with the Accomplishment Instructions of Airbus Service Bulletin A330-53-3159, Revision 02, dated March 29, 2010; or Airbus Service Bulletin A340-53-4165, Revision 02, dated March 29, 2010; as applicable; terminates the repetitive HFEC inspections required by the introductory text to paragraph (g) of this AD, except where Airbus Service Bulletin A330-53-3159, Revision 02, dated March 29, 2010; or Airbus Service Bulletin A340-53-4165, Revision 02, dated March 29, 2010; as applicable; specifies to contact the manufacturer, repair using a method approved by the Manager, International Branch, ANM-116, Transport Airplane Directorate, FAA; or EASA; or Airbus's EASA DOA.

(j) Inspection and Modification for Airbus Model A330-200 Airplanes

(1) Within the compliance times specified in paragraph (j)(1)(i) or (j)(1)(ii) of this AD, whichever occurs later: Do all applicable actions, including an eddy current rotating probe test and an HFEC inspection for cracks, and modify the airplane upper shell structure between FR80 and FR86; in accordance with the Accomplishment Instructions of Airbus Service Bulletin A330-53-3160, Revision 03, dated January 6, 2012.

(i) Within the compliance times identified in paragraph 1.E., “COMPLIANCE,” of Airbus Service Bulletin A330-53-3160, Revision 03, dated January 6, 2012, as applicable for airplane configuration and utilization since the airplane's first flight.

(ii) Within 12 months after the effective date of this AD without exceeding the threshold, defined in paragraph 1.E, “COMPLIANCE,” of Airbus Service Bulletin A330-53-3160, Revision 02, dated March 29, 2010, since the airplane's first flight.

(k) Inspection and Modification for Airbus Model A340-300 Airplanes, Only WV 027

For Model A340-300 airplanes, WV 027 only: Before the accumulation of 14,200 total flight cycles from the airplane's first flight, do all applicable inspections and modify the airplane upper shell structure between FR80 and FR86; in accordance with the Accomplishment Instructions of Airbus Service Bulletin A340-53-4172, Revision 01, dated July 8, 2009.

(l) Corrective Action for Airbus Model A330-200 Airplanes; and Model A340-300 Airplanes, Only WV 027

If any crack is detected during the inspection required by paragraph (j) or (k) of this AD, before further flight, repair using a method approved by the Manager, International Branch, ANM-116, Transport Airplane Directorate, FAA; or EASA; or Airbus's EASA DOA; concurrently with modification required by paragraph (j) or (k) of this AD.

(m) Definition of “Threshold” and “Interval”

(1) For the purposes of this AD, the term “Threshold,” as used in paragraph 1.E., “COMPLIANCE,” of the service information specified in paragraphs (m)(2)(i) through (m)(2)(vi) of this AD means the total flight cycles or flight hours accumulated since the airplane's first flight.

(2) For the purposes of this AD, the term “Interval” as used in paragraph 1.E., “COMPLIANCE,” of the service information specified in paragraphs (m)(2)(i) through (m)(2)(vi) of this AD means the total flight cycles or flight hours accumulated since the last inspection, as applicable.

(i) Airbus Service Bulletin A330-53-3168, dated September 19, 2007.

(ii) Airbus Service Bulletin A330-53-3168, Revision 01, dated February 15, 2008.

(iii) Airbus Service Bulletin A330-53-3168, Revision 02, dated December 21, 2011.

(iv) Airbus Service Bulletin A340-53-4174, dated September 19, 2007.

(v) Airbus Service Bulletin A340-53-4174, Revision 01, dated February 15, 2008.

(vi) Airbus Service Bulletin A340-53-4174, Revision 02, dated December 21, 2011.

(n) Credit for Previous Actions

(1) For Model A330-300 and A340-300 airplanes, except Model A340-300 WV 027 airplanes: This paragraph provides credit for the modification specified in paragraph (i) of this AD, if those actions were performed before the effective date of this AD using the service information identified in paragraph (n)(1)(i), (n)(1)(ii), (n)(1)(iii), or (n)(1)(iv) of this AD, as applicable. This service information is not incorporated by reference in this AD.

(i) Airbus Service Bulletin A330-53-3159, dated September 19, 2007.

(ii) Airbus Service Bulletin A330-53-3159, Revision 01, dated June 15, 2009.

(iii) Airbus Service Bulletin A340-53-4165, dated September 19, 2007.

(iv) Airbus Service Bulletin A340-53-4165, Revision 01, dated June 17, 2009.

(2) For Model A330-200 airplanes: This paragraph provides credit for the inspection and modification required by paragraph (j) of this AD, if those actions were performed before the effective date of this AD using the service information identified in paragraph (n)(2)(i), (n)(2)(ii), or (n)(2)(iii) of this AD, as applicable. This service information is not incorporated by reference in this AD.

(i) Airbus Service Bulletin A330-53-3160, dated July 9, 2007.

(ii) Airbus Service Bulletin A330-53-3160, Revision 01, dated April 28, 2009.

(iii) Airbus Service Bulletin A330-53-3160, Revision 02, dated March 29, 2010.

(3) For Model A340-300 airplanes, WV 027 only: This paragraph provides credit for the inspection and modification required by paragraph (k) of this AD, if those actions were performed before the effective date of this AD using Airbus Service Bulletin A340-53-4172, dated July 10, 2007, which is not incorporated by reference in this AD.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425- 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(p) Related Information

(1) Refer to Mandatory Continuing Airworthiness Information (MCAI) EASA Airworthiness Directive 2014-0012R1, dated January 24, 2014, for related information. This MCAI may be found in the AD docket on the Internet at http://www.regulations.gov by searching for and locating Docket No. FAA-2015-0490.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on March 2, 2015.
Jeffrey E. Duven,
Manager, Transport Airplane Directorate, Aircraft Certification Service.

[FR Doc. 2015-05720 Filed 3-16-15; 8:45 am]

BILLING CODE 4910-13-P